CONSUMER PRODUCT SAFETY COMMISSION

Chairman's Public Field Hearing Concerning All Terrain Vehicles

AGENCY: Consumer Product Safety Commission.

ACTION: Notice of public field hearing.

SUMMARY: The Chairman of the Consumer Product Safety Commission (“CPSC or Commission”) will conduct a public field hearing in Albuquerque, New Mexico on November 6, 2003 to obtain information and views from the public concerning all terrain vehicles (“ATVs”).

The Chairman requests members of the public to participate in this hearing. The Chairman is particularly interested in participation from users of ATVs (both recreational and occupational); persons who have been involved in accidents or have been injured while riding ATVs; state and local government officials or organizations involved with ATVs; medical professionals and emergency service providers; and manufacturers, distributors and dealers of ATVs.

DATES: The hearing will be held on November 6, 2003, beginning at 9 a.m. Requests to make oral presentations, and 10 copies of the text of the presentation, must be received by the Office of the Secretary no later than November 3, 2003. Persons making presentations at the meeting should provide an additional 10 copies for dissemination on the date of the meeting. The Chairman reserves the right to limit the number of persons who make presentations and the duration of their presentations. To prevent similar presentations, groups will be directed to designate a spokesperson.

ADDRESSES: The meeting will be held at Smith Brasher Hall, 717 University Blvd., S.W. (On the corner of University Blvd. and Coal Avenue), Albuquerque, New Mexico. Requests to make oral presentations, and texts of oral presentations should be captioned “ATV Hearing” and mailed to the Office of the Secretary, Consumer Product Safety Commission, Washington, DC 20207, or delivered to that office, room 502, 4330 East-West Highway, Bethesda, Maryland 20814. Requests and texts of oral presentations may also be submitted by facsimile to (301) 504-0127 or by e-mail to cpsc-os@cpsc.gov.

FOR FURTHER INFORMATION CONTACT: For information about the schedule for submission of requests to make oral presentations and submission of texts of oral presentations, contact Rockelle Hammond, office of the Secretary, Consumer Product Safety Commission, Washington, DC 20207; telephone (301) 504-6833; fax (301) 504-0127; or e-mail rhammond@cpsc.gov.

SUPPLEMENTARY INFORMATION:

A. Background

This meeting will be the third in a series of field hearings on ATVs. During the summer the Chairman conducted hearings in Alaska, and the Commission held a hearing in Morgantown, West Virginia. The question of ATV safety has been an issue of interest to the Commission since the 1980's when the Commission filed a lawsuit under section 12 of the Consumer Product Safety Act (“CPSA”) to declare ATVs an imminently hazardous consumer product. 15 U.S.C. 2061(b)(1). The lawsuit was settled in 1988 by Consent Decrees between the Commission and ATV distributors that were effective for 10 years. The Commission continues to gather information about ATV-related injuries and deaths.

From 1997 to 2001 the estimated number of ATV-related injuries treated in hospital emergency rooms rose from 54,700 to 111,700 (a 104% increase). Deaths have also been increasing, and the Commission staff has estimated that there were 547 deaths associated with the use of ATVs in 2000. From 1997 to 2001 the estimated number of ATV drivers rose from 12 million to 16.3 million (a 36% increase), the estimated total number of driving hours rose from 1575 million to 2364 million (a 50% increase), and the estimated number of ATVs rose from 4 million to 5.6 million (a 40% increase). None of the increases in these measures of exposure to the risk of operating ATVs accounts for the increases in the number of injuries during the same time period.

The Commission has been petitioned by the Consumer Federation of America and other groups (Petition CP-02-4/HP-02-1) requesting that the Commission ban adult-size four wheel ATVs that are sold for the use of children under 16 years of age. The Commission requested written comments on the petition (67 FR 64353 and 67 FR 78776). This hearing will provide an additional opportunity for the public to express their views about this petition.

B. The Public Hearing

The purpose of the public hearing is to provide a forum for oral presentations concerning ATVs. Specifically, the Chairman requests comments from interested stakeholders and citizens on the following areas of interest:

1. Information about local and state ATV use restrictions, regulations and licensing activities and their impact upon ATV safety.

2. Current ATV use patterns (recreational, industrial, agricultural, or other uses), injuries and safety issues related to those specific uses.

3. Information from ATV owners and users regarding ATV use, safety issues, accidents and injuries, minimum riding and purchasing age requirements, and future government action.

4. Current local, state and industry safety efforts and training programs.

5. Information from ATV manufacturers and dealers regarding the availability and use of safety training for ATV purchasers, and ATV consumer purchasing patterns (age, model type and size, experienced vs. inexperienced riders, etc.).

6. Whether factors such as the rider's age, ATV engine size, and/or the large used ATV sales market (or any other factors) have influenced the increase in injuries and deaths observed by the Commission staff during its recent ATV risk analysis study.

7. Whether there should be a performance standard for ATVs and what requirements related to safety should be included.

Participation in the hearing is open. See the DATES section of this notice for information on making requests to give oral presentations at the hearing.

Dated: October 8, 2003.
Todd A. Stevenson,
Secretary, Consumer Product Safety Commission.

[FR Doc. 03-26057 Filed 10-14-03; 8:45 am]

BILLING CODE 6355-01-P